DEPARTMENT OF LABOR

Employment and Training Administration

[TA-W-37,866]

Assembly Services, Incorporated, El Paso, Texas; Notice of Termination of Certification

This notice terminates the Certification Regarding Eligibility to Apply For Workers Adjustment Assistance issued by the Department on July 25, 2000, for all workers of Assembly Services, Incorporated, El Paso, Texas. The notice was published in the Federal Register on August 25, 2000 (65 FR 51848).

At the request of the State agency, the Department reviewed the worker certification. Workers at the subject firm produce wet mops, dust mops, brooms, and provide distribution services.

Findings on review show that on December 16, 1998, the Department issued a certification of eligibility applicable to all workers of Quickie Manufacturing Corporation, including Assembly Services, Inc., El Paso, Texas, engaged in employment related to the production of dust mops, wet mops, and plastic brooms, petition number TA-W-35,158. Workers separated from employment with the subject firm on or after October 21, 1997 through December 16, 2000, are eligible to apply for worker adjustment assistance.

Since all workers of Assembly Services, Incorporated, El Paso, Texas, are covered by petition number TA-W-35,158 through December 16, 2000, the Department is terminating the certification for petition number TA-W-37,866. Further coverage for workers under this certification would serve no purpose, and the certification has been terminated.

Signed in Washington, DC, on this 5th day of September 2000.
Edward A. Tomchick,
Director, Division of Trade Adjustment Assistance.

[FR Doc. 00-23929 Filed 9-15-00; 8:45 am]

BILLING CODE 4510-30-M